DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 77 FR 65694-65698 dated October 30, 2012).

This notice reflects organizational changes to the Health Resources and Services Administration. This notice updates the functional statement for the Bureau of Clinician Recruitment and Service (BCRS) (RU). Specifically, this notice: (1) Updates the functional statement for the Division of Program Operations (RU9).

Chapter RU—Bureau of Clinician Recruitment and Service

Section RU-20, Functions

Delete the functional statement for the Division of Program Operations (RU9) and replace in its entirety.

Division of Program Operations (RU9)

Serves as the organizational focal point for the Bureau's centralized, comprehensive customer service function to support program participants and oversee participants' compliance with all BCRS programs. Provides regular and ongoing communication, technical assistance, and support to program participants through the period of obligated service and closeout. Specifically: (1) Initiates contact with and monitors program participants throughout their service; (2) manages participants' site transfers, in-service verifications, and similar service change requests; (3) reviews program cases and recommends participants for suspensions, waivers, and defaults to the appropriate BCRS Division; (4) conducts closeout activities and issues completion certificates to participants that fulfill their service obligation; (5) manages the 6-month verification process; and, (6) maintains program participants' case files in the Bureau's management information system.

Section R-30, Delegations of Authority

All delegations of authority and re-delegations of authority made to HRSA officials that were in effect immediately prior to this reorganization, and that are consistent with this reorganization, shall continue in effect pending further re-delegation.

This reorganization is effective upon date of signature.

December 4, 2012.
Mary K. Wakefield,
Administrator.

[FR Doc. 2012-29862 Filed 12-10-12; 8:45 am]

BILLING CODE 4165-15-P